INTERNATIONAL TRADE COMMISSION

Emergency Notice of Change of Date and Time of Commission Meeting

AGENCY HOLDING THE MEETING: United States International Trade Commission.

ORIGINAL TIME AND DATE: January 28, 2000 at 11:00 a.m.

NEW DATE AND TIME: January 31, 2000 at 2:30 p.m.

PLACE: Room 101, 500 E Street S.W., Washington, DC 20436, Telephone: (202) 205-2000.

STATUS: Open to the public.

Under 19 CFR § 201.35(d)(1), the Commission determined to change the date and time of the meeting originally scheduled for Friday, January 28, 2000 at 11:00 a.m. to Monday, January 31, 2000 at 2:30 p.m. The agenda for the meeting remains unchanged. Seven (7) days notice of this change was not possible.

By order of the Commission.

Issued: January 27, 2000.
Donna R. Koehnke,
Secretary.

[FR Doc. 00-2289 Filed 1-28-00; 3:20 pm]

BILLING CODE 7020-02-M